FEDERAL COMMUNICATIONS COMMISSION

47 CFR Part 27

[GN Docket No. 18-122; GN Docket No. 23-97; DA 23-204; FR ID 131565]

Wireless Telecommunications Bureau Seeks Comment on C-Band Phase II Certification Procedures

AGENCY: Federal Communications Commission.

ACTION: Notification.

SUMMARY: In this document, the Wireless Telecommunications Bureau (WTB or Bureau) seeks comment on its proposed procedures related to the filing of Phase II Certifications of Accelerated Relocation (Certifications) and on implementation of the Commission's incremental reduction plan for Phase II Accelerated Relocation Payments (ARPs) as part of the ongoing transition of the 3.7 GHz band. Filers responding to this Public Notice should submit comments in GN Docket No. 23-97.

DATES: Interested parties may file comments on or before April 20, 2023.

ADDRESSES: Federal Communications Commission, 45 L St NE, Washington, DC 20554.

You may submit comments, identified by WP Docket No. 07-100, by any of the following methods:

• Electronic Filers: Comments may be filed electronically using the internet by accessing the ECFS: http://apps.fcc.gov/ecfs/.

• Paper Filers: Parties who choose to file by paper must file an original and one copy of each filing.

○ Filings can be sent by commercial overnight courier, or by first-class or overnight U.S. Postal Service mail. All filings must be addressed to the Commission's Secretary, Office of the Secretary, Federal Communications Commission.

○ Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (Braille, large print, electronic files, audio format), send an email to fcc504@fcc.gov or call the Consumer & Governmental Affairs Bureau at 202-418-0530 (voice), 202-418-0432 (TTY).

FOR FURTHER INFORMATION CONTACT: For additional information on this proceeding, contact Susan Mort of the Wireless Telecommunications Bureau, at (202) 418-2429 or Susan.Mort@fcc.gov.

SUPPLEMENTARY INFORMATION: This is a summary of the Public Notice, Wireless Telecommunications Bureau Seeks Comment on C-Band Phase II Certification of Accelerated Relocation Procedures and Implementation of the Commission's Incremental Reduction Plan for Phase II Accelerated Relocation Payments, released on March 13, 2023. The full text of this document is available for public inspection online at https://www.fcc.gov/document/wtb-seeks-comment-c-band-phase-ii-certification-procedures.

1. With this Public Notice, the Bureau proposes adopting filing procedures modeled after those previously adopted for Phase I to allow eligible space station operators to submit Certifications, and stakeholders to file related challenges, with respect to the Phase II migration of incumbent services in this band. The Bureau also seeks comment on potential adjustments to the Phase I procedures that we believe will create more transparency and efficiency in the Phase II Certification review process such as requiring a specific level of detail in incumbent earth station operator's Certifications and/or requiring information be provided in a standardized format. The Bureau also seeks comment on a potential threshold trigger before Phase II Certifications may be submitted for validation. With relation to the Phase II incremental reduction plan, the Bureau proposes adopting an approach that parallels the Phase I process for calculating the incremental reduction of an eligible space station operator's ARP should it fail to meet the Phase II Accelerated Relocation Deadline.

Federal Communications Commission.
Amy Brett,
Acting Chief of Staff, Wireless Telecommunications Bureau.

[FR Doc. 2023-05601 Filed 3-20-23; 8:45 am]

BILLING CODE 6712-01-P